DEPARTMENT OF TRANSPORTATION

Federal Transit Administration

Preparation of an Alternatives Analysis/Environmental Impact Statement for High-Capacity Transit Improvements in the Central Mesa Corridor

AGENCY: Federal Transit Administration, U.S. Department of Transportation.

ACTION: Notice of intent to prepare an Alternatives Analysis/Environmental Impact Statement.

SUMMARY: The Federal Transit Administration (FTA) and Valley Metro Rail, Inc. (METRO) intend to prepare an Alternatives Analysis (AA) and Environmental Impact Statement (EIS) on proposed high capacity transit improvements, including a potential light rail transit (LRT) and/or bus rapid transit (BRT) in the Central Mesa Corridor between the LRT Starter Line eastern terminus and Power Road (a distance of approximately 13 miles) in the City of Mesa in Maricopa County, Arizona. The proposed study area is bounded on the west by the LRT Starter Line eastern terminus at Main Street/Sycamore; University Boulevard to the north; Power Road to the east; and the Superstition Freeway (US 60) on the south. The AA/EIS will be prepared in accordance with the requirements of the National Environmental Policy Act (NEPA) and its implementing regulations. The AA/EIS process will be initiated with a scoping process that provides opportunities for the public to comment on the scope of the project and proposed alternatives to be considered in the AA and Draft Environmental Impact Statement (DEIS). This input will be used to assist decisionmakers in determining a locally preferred alternative (LPA) for the Central Mesa Corridor. Upon selection of an LPA, METRO will request permission from FTA to enter into preliminary engineering per requirements of New Starts regulations 49 CFR part 611. The Final Environmental Impact Statement (FEIS) will be issued after FTA approves entrance into preliminary engineering.

The purpose of this notice is to alert interested parties regarding the intent to prepare the AA/EIS, to provide information on the nature of the proposed project and possible alternatives, to invite public participation in the AA/EIS process, including comments on the scope of the alternatives proposed in this notice, to announce that public scoping meetings will be conducted, and to identify participating agency contacts.

DATES: Written and e-mailed comments on the scope of study, including the alternatives to be considered, and the impacts to be assessed, should be sent to Valley Metro Rail, Inc. (METRO) on or before September 13, 2007. See ADDRESSES below for the street address and e-mail address to which written comments may be sent. Public scoping meetings to accept comments on the scope of the study will be held on the following dates:

• Thursday, August 23, 2007, at 6 p.m., Mesa City Plaza, Training Room 170, 20 E. Main Street, Mesa, Arizona 85201.

• Thursday, August 30, 2007, at 6 p.m., Jefferson Elementary School, Recreation Center, 120 S. Jefferson Avenue, Mesa, AZ 85208.

An interagency scoping meeting will be held on the following date:

• Tuesday, August 21, 2007, at 10 a.m., Valley Metro Rail, Inc. (METRO), 101 North 1st Avenue, Suite 1300, Phoenix, AZ 85003.

The project's purpose and need and the initial set of alternatives proposed for study will be presented at these meetings. The buildings used for the scoping meetings are accessible to persons with disabilities. Any individual who requires special assistance, such as a sign language interpreter, to participate in a scoping meeting should contact Jodi Sorrell, City of Mesa, 600 SE. Sixth Street, Mesa, AZ 85211 (Telephone 480-644-5541) at least 48 hours in advance of a meeting in order for METRO and the City of Mesa to make the necessary arrangements.

Scoping materials wil be available at the meetings and through the project's Web site at http://www.metrolightrail.org/centralmesa. Hard copies of the scoping materials are also available from Mr. Marc Soronson whose contact information is given in ADDRESSES below.

ADDRESSES: Written comments should be sent to the attention of Mr. Marc Soronson, Valley Metro Rail, Inc., 101 North 1st Avenue, Suite 1300, Phoenix, AZ 85003. E-mail centralmesa@metrolightrail.org. Phone: (602) 744-5545, Fax: (602) 252-7453. The locations of the public scoping meetings are given above under DATES.

FOR FURTHER INFORMATION CONTACT: Mr. Hymie Luden, Office of Planning and Program Development, Federal Transit Administration, 201 Mission Street, Room 1650, San Francisco, CA 94105. Phone: (415) 744-2732.

SUPPLEMENTARY INFORMATION:

Scoping

The FTA and Valley Metro Rail, Inc. (METRO) invite all interested individuals and organizations, public agencies, and Native American Tribes to comment on the scope of the alternatives analysis and the EIS, including the project's preliminary statement of purpose and need, the alternatives to be studied and the impacts to be evaluated. Comments should focus on the purpose and need for the proposed project; alternatives that may be less costly or have less environmental or community impacts while achieving similar transportation objectives; and the identification of any significant social, economic, or environmental issues relating to the alternatives.

Purpose and Need for the Project

The draft statement of the project purpose is currently under review by METRO and the City of Mesa, and will be refined further. In its current state, the purpose is defined as follows:

1. Identify a transit alternative that increases efficient access to employment opportunities throughout the Central Phoenix/East Valley region for City of Mesa residents.

2. Identify a transit alternative that provides improved travel times in a congested environment over local bus.

3. Identify a transit improvement alternative, with a recommended alignment and technology, to connect the western and central segments of the City of Mesa with the Central Phoenix/East Valley Light Rail System currently under construction.

4. Identify a widely-supported transit improvement alternative that would facilitate continued development of a comprehensive and inter-connected regional transit network that is multi-modal, that offers a range of effective mobility choices for current and future transit riders, and that attracts new transit riders onto the growing regional system.

5. Identify a transit alternative that supports economic development, and ensures enhanced connectivity among existing and planned regional and local activity centers and attractions.

Additional considerations supporting the project's need include:

The City of Mesa, which spans approximately 132 square miles, is the third largest city in Arizona. Today's estimated population of 455,100 is expected to increase by approximately 25% by 2020. In general, travel on highways and arterials is expected to increase by approximately 30% between 2004 and 2030 within Maricopa County; peak period travel to work is expected to grow by about 40%; similar trends are anticipated for the City of Mesa.

Growth in the City of Mesa has caused substantial increases in traffic congestion on the existing roadway network, and has generated the need for new public transportation service. Even with implementation of the projects included in the Maricopa Association of Governments (MAG) Regional Transportation Plan (RTP), service levels in 2030 on both the area freeways and arterials is expected to deteriorate substantially due to increased travel demand, resulting in a significant increase in delay. Based on MAG model results, daily freeway congestion appears to be highest on the freeways in the general project vicinity in 2004 and 2030, in comparison to other areas, such as the downtown Phoenix area, Sky Harbor Airport vicinity, and downtown Tempe area. In 2030, daily congestion is expected on 93% of lane miles on arterials in the Mesa project corridor, a growth of 66% over current levels.

The AA/EIS will analyze the potential for the proposed high capacity transit improvement to address increased demand for travel by connecting the project corridor with the LRT Starter Line eastern terminus at Main Street/Sycamore.

Several major attractions are located in the City. In addition, other attractions of regional magnitude are in varying stages of development throughout the City. These will provide significant employment, commercial, entertainment and retail resources, and are expected to generate even greater demand for travel and access, both within the City limits and between the City and regionally significant areas west and northwest of the City, such as the City of Tempe, the Phoenix Central Business District (CBD)/Washington Corridor, and the Spectrum Mall vicinity.

Alternatives

Central Phoenix/East Valley Light Rail LPA: The 2002 Final EIS for the Central Phoenix/East Valley Light Rail Transit Project (the LRT Starter Line that is currently under construction and scheduled to open in December 2008) identified four LRT alignment options that were outside the Build Alternative project studied in that Final EIS. These options extended from the eastern terminus of the LRT Starter Line and continued into the Mesa Town Center. All options used either Main Street 1st Avenue, 1st Street, or some combination thereof. Recent growth in the vicinity of Mesa Drive has narrowed opportunities for adequate park-and-ride facilities in that area; therefore, it is suggested that park-and-ride facilities be located further east near Horne where a park-and-ride facility could be provided.

BRT Alternative: The City of Mesa recently conducted a study to evaluate new and improved bus rapid transit (BRT) in the study area. The study recommended a phased BRT project that would initially connect the eastern terminus of the LRT Starter Line to Superstition Springs Mall via Main Street and Power Road, a total of 13 miles. Phase 1 of the BRT project is scheduled to coincide with the opening of the LRT Starter Line in 2008. Future operating and service characteristics for the BRT project are subject to change pending the results of the AA/EIS and public and agency input. In addition, the 2002 Final EIS showed the LRT extension options to Mesa Town Center terminating just west of Mesa Drive.

Other AA Alternatives: At a minimum, the alternatives to be considered include the following:

• No-Build—implements a modified existing and committed road and transit improvements as defined by the Regional Transportation Plan and coordinated with the City of Mesa. The No-Build includes the Mesa BRT project on Main Street scheduled for operation in December 2008.

• Transportation System Management (TSM)—includes reasonable cost-effective transit service improvements short of a major capital investment in fixed guideway. The TSM implements all of the projects in the No-Build Alternative.

• Bus Rapid Transit—includes projects defined in the No-Build Alternative and programmed bus service expansion. BRT options under consideration extend at-grade from the LRT Starter Line to Superstition Springs Mall and include:

• BRT via Main Street and Power Road.

• BRT via Main Street, Mesa Drive, and Southern Avenue.

• BRT via Main Street, Gilbert Road, and Southern Avenue).

• BRT in the Mesa Town Center include:

○ Main Street through downtown Mesa.

○ Main Street to 1st Street Loop in downtown Mesa.

○ Main Street to 1st Street double fixed guideway in downtown Mesa.

• Light Rail Transit—includes projects included in the No-Build Alternative plus consideration of a LRT extension from the CP/EV end of line station at Sycamore to the Mesa Town Center at Horne Avenue. LRT suboptions in the Mesa Town center include:

○ Main Street through downtown Mesa.

○ Main Street to 1st Street diversion in downtown Mesa.

○ Main Street to 1st Avenue diversion in downtown Mesa.

○ Main Street to 1st Street/1st Avenue couplet in downtown Mesa.

○ A supporting bus component would include BRT service connecting the LRT terminus at approximately Horne and would extend to Superstition Springs Mall.

These alternatives will be developed further during preparation of the AA/EIS. Additional reasonable Build Alternatives suggested during the scoping process that meet the purpose and need for the project may also be considered.

The EIS Process and the Role of Participating Agencies and the Public

The purpose of the NEPA process is to explore, in a public setting, the effects of the proposed project and its alternatives on the physical, human, and natural environment. The FTA and METRO will evaluate all significant environmental, social and economic impacts of the construction and operation of the proposed project. Impact areas to be addressed include: Land use; development potential; secondary development; land acquisition and displacements and relocations; cultural resources (including impacts on historical and archaeological resources); parklands and recreation areas; visual and aesthetic qualities; air quality; noise and vibration; ecosystems (including threatened and endangered species); energy use; business and neighborhood disruptions; environmental justice; changes in traffic and pedestrian circulation and congestion; and changes in transit service and patronage. Measures to avoid, minimize, or mitigate any significant adverse impacts will be identified and evaluated.

The methodology for evaluation of impacts will focus on the areas of investigation mentioned above. As the public involvement and agency consultation process proceeds, additional evaluation criteria and impact assessment measures will be included in the analysis. Potential alternatives will be developed to a conceptual level, and will be screened and ranked against these evaluation criteria and local community considerations. Travel time savings, potential for congestion reduction and improved mobility options for City of Mesa residents will be assessed for the transportation alternatives considered. The public involvement program and agency coordination plan discussed below will provide the vehicle through which these evaluation analyses will be conducted.

The regulations implementing NEPA, as well as provisions of the Safe, Accountable, Flexible, Efficient Transportation Equity Act: A Legacy for Users (SAFETEA-LU), call for public involvement in the EIS process. Section 6002 of SAFETEA-LU requires that FTA and METRO do the following: (1) Extend an invitation to other Federal and non-Federal agencies and Indian tribes that may have an interest in the proposed project to become “participating agencies”; (2) provide an opportunity for involvement by participating agencies and the public in helping to define the purpose and need for a proposed project, as well as the range of alternatives for consideration in the EIS; and (3) establish a plan for coordinating public and agency participation in and comment on the environmental review process.

An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify, at the earliest opportunity, the person identified above under ADDRESSES.

A comprehensive Public Involvement Program will be developed, and a public and agency involvement Coordination Plan will be created. The Public Involvement Program will include a full range of involvement activities. Activities will include outreach to local and county officials and community and civic groups; a public scoping process to define the issues of concern among all parties interested in the project; organizing periodic meetings with various local agencies, organizations and committees; a public hearing on release of the Draft Environmental Impact Statement (DEIS); and development and distribution of project newsletters. There will be additional opportunities to participate in the scoping process in addition to the public meetings announced in this notice. Specific mechanisms for involvement will be detailed in the Public Involvement Program.

Valley Metro Rail, Inc. (METRO) may seek New Starts funding for the proposed project under 49 U.S.C. 5309 and will therefore be subject to New Starts regulations (49 CFR part 611). The New Starts regulation requires a planning Alternatives Analysis that leads to the selection of a locally preferred alternative and the inclusion of the locally preferred alternative as part of the long-range transportation plan adopted by the Maricopa Association of Governments. The New Starts regulation also requires the submission of certain project-justification information in support of a request to initiate preliminary engineering, and this information is normally developed in conjunction with the NEPA process. Pertinent New Starts evaluation criteria will be included in the Final EIS.

The AA/EIS will be prepared in accordance with the NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the Section 404(b)(1) guidelines of EPA (40 CFR part 230), the regulation implementing section 106 of the National Historic Preservation Act (36 CFR part 800), the regulation implementing section 7 of the Endangered Species Act (50 CFR part 402), section 4(f) of the Department of Transportation Act (23 CFR 771.135), and Executive Orders 12898 on environmental justice, 11988 on floodplain management and 11990 on wetlands.

Issued on: July 25, 2007.
Leslie T. Rogers,
Regional Administrator, FTA Region IX.

[FR Doc. 07-3815 Filed 8-2-07; 8:45 am]

BILLING CODE 4910-57-M